DEPARTMENT OF ENERGY

Office of Energy Efficiency and Renewable Energy

Notice of Request for Information (RFI) Re: Photovoltaic Module Recycling

AGENCY: Office of Energy Efficiency and Renewable Energy, Department of Energy (DOE).

ACTION: Notice of request for information.

SUMMARY: The Department of Energy (DOE) today gives notice of a request for information regarding the possible technical areas of research in the area of photovoltaic module recycling. DOE intends to understand the current state of recycling technology and the areas of research that could lead to impactful recycling technologies to support the developing photovoltaic industry. The intent of this RFI is to generate discussion related to planning for the end of life of photovoltaic modules and to create a list of high impact research topics in photovoltaics recycling. Details regarding the RFI and instructions for submitting responses to the RFI can be found at the following URL address: https://eere-exchange.energy.gov/.

DATES: Responses to this RFI must be received by November 14, 2014.

ADDRESSES: The RFI and instructions for submitting responses to the RFI can be found at the following URL address: https://eere-exchange.energy.gov/.

FOR FURTHER INFORMATION CONTACT: Questions may be directed to—pv-recycling-rfi@ee.doe.gov.

Issued in Washington, on October 14, 2014.
Marie Mapes,
Program Manager, Solar Energy Technologies Office.

[FR Doc. 2014-24969 Filed 10-20-14; 8:45 am]

BILLING CODE 6450-01-P